DEPARTMENT OF TRANSPORTATION

Federal Highway Administration

[Docket No. FHWA-2014-0015]

Agency Information Collection Activities: Request for Comments for the Renewal of a Previously Approved Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on January 17, 2014. The PRA submission describes the nature of the information collection and its expected cost and burden.

DATES: Please submit comments by May 1, 2014.

ADDRESSES: You may submit comments identified by DOT Docket ID 2014-0015 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Kevin Douglas, 202-366-2601, Office of Human Environment, Federal Highway Administration, Department of Transportation, 1200 New Jersey Avenue SE., Washington, DC 20590, Monday through Friday, except Federal holidays.

SUPPLEMENTARY INFORMATION:

Title: Surface Transportation Environment and Planning (STEP) Cooperative Research Program.

Background: Section 5207 of the Safe, Accountable, Flexible, Efficient Transportation Equity Act: A Legacy for Users of 2005 (SAFETEA-LU) established a new cooperative research program for environment and planning research in section 507 of Title 23, United States Code, Highways (23 U.S.C. 507). The general objective of the STEP is to improve understanding of the complex relationship between surface transportation, planning, and the environment. The FHWA anticipates that the STEP program will provide resources for national research on issues related to planning, environment and realty. These resources are likely to be included in future surface transportation legislation. The research program established under this section shall ensure that stakeholders are involved in the governance of the program, at the executive, overall program, and technical levels, through the use of expert panels and committees. FHWA will be collecting feedback via a STEP Web site on the 18 emphasis areas. This information will be used to identify potential research for an annual Research Plan. The number of stakeholders with an interest in environment and planning research includes three groups:

I—Federal Agencies and Tribal Governments

II—State and Local Governments

III—Non-governmental Transportation and Environmental Stakeholders

Respondents: An estimated 270 participants annually for a total of approximately 810 participants during the three-year period while the OMB clearance is in effect.

Frequency: Annually.

Estimated Average Burden per Response: 30 minutes each year. Due to the specialized nature of the 18 emphasis areas, most commenters will provide input in only one area.

Estimated Total Annual Burden Hours: Approximately 135 hours annually (405 hours total for the three-year period).

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: March 26, 2014.
Michael Howell,
Information Collection Officer.

[FR Doc. 2014-07214 Filed 3-31-14; 8:45 am]

BILLING CODE 4910-22-P